SOCIAL SECURITY ADMINISTRATION

[Docket No. SSA-2025-0027]

Privacy Act of 1974; Matching Program

AGENCY: Social Security Administration (SSA).

ACTION: Notice of a New matching program.

SUMMARY: In accordance with the provisions of the Privacy Act, as amended, this notice announces a new matching program with the United States Department of Health and Human Services, Administration for Children and Families, Office of Child Support Services (OCSS). Under this matching program, OCSS will disclose quarterly wage (QW) information to SSA to establish or verify eligibility, continuing entitlement, or payment amounts, or all of the above, of individuals under Title II Disability Insurance (DI) program of the Social Security Act (Act).

DATES: The deadline to submit comments on the proposed matching program is December 22, 2025.

The matching program will be applicable on December 23, 2025, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2025-0027 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2025-0027 and then submit your comments. The system will issue you a tracking number to confirm your submission. You will not be able to view your comment immediately because we must post each submission manually. It may take up to a week for your comments to be viewable.

2. Fax: Fax comments to (833) 410-1631.

3. Mail: Matthew Ramsey, Executive Director, Privacy and Disclosure Policy, Law and Policy, Social Security Administration, 6401 Security Boulevard, Baltimore, MD 21235-6401, or emailing Matthew.Ramsey@ssa.gov. Comments are also available for public viewing on the Federal eRulemaking portal at https://www.regulations.gov or in person, during regular business hours, by arranging with the contact person identified below.

FOR FURTHER INFORMATION CONTACT: Interested parties may submit general questions about the matching program to Andrea Huseth, Division Director, Privacy and Disclosure Policy, Law and Policy, Social Security Administration, 6401 Security Boulevard, Baltimore, MD 21235-6401, at telephone: (410) 608-9675, or send an email to Andrea.Huseth@ssa.gov.

SUPPLEMENTARY INFORMATION: This is the re-establishment of a matching program that is set to expire between SSA and OCSS, which supports SSA's efficient administration of its Title II DI program.

Matthew Ramsey,
Executive Director, Privacy and Disclosure Policy, Law and Policy.

PARTICIPATING AGENCIES:

SSA and OCSS.

AUTHORITY FOR CONDUCTING THE MATCHING PROGRAM:

The agreement to conduct this matching program between SSA and OCSS is executed pursuant to the Act and the Privacy Act of 1974, as amended. Section 224(h)(1) of the Act provides that the head of any Federal agency shall provide information within its possession as the Commissioner of Social Security may require for purposes of making a timely determination of the amount of the reduction, if any, required by section 224 in benefits payable under Title II of the Act. 42 U.S.C. 424a(h). Section 453(j)(4) authorizes OCSS to provide the Commissioner of Social Security with all information in the National Directory of New Hires (NDNH). 42 U.S.C. 653(j)(4). Disclosures under this matching program shall be made in accordance with 5 U.S.C. 552a(b)(3), under a routine use published in a systems of records notice as required by the Privacy Act, and in compliance with the matching procedures in 5 U.S.C. 552a(o), (p), and (r), which describes matching agreements, verification by agencies of information, the opportunity for individuals to contest agency findings, and the obligations of agencies to report proposals to establish or change matching programs to Congress and the Office of Management and Budget.

PURPOSE(S):

Under this matching program, SSA will use the NDNH QW information to establish or verify eligibility, continuing entitlement, or payment amounts, or all of the above, of individuals under the Title II DI program of the Act. The NDNH is a nationally centralized directory of new hire, QW, and unemployment insurance information, and provides an effective, efficient, and comprehensive method of collecting and comparing this information. SSA's use of NDNH QW information supports program accuracy, program administration, and reduces overpayments.

CATEGORIES OF INDIVIDUALS:

The individuals whose information is involved in this matching program are individuals who are applicants or recipients of Title II benefits.

CATEGORIES OF RECORDS:

SSA will provide electronically to OCSS the following data elements in the finder file:

• Individual's Social Security number (SSN)

• Name (first, middle, last)

OCSS will disclose electronically to SSA the following data elements from the NDNH in the QW file:

• QW record identifier

• For employees:

(1) Name (first, middle, last)

(2) SSN

(3) Verification request code

(4) Processed date

(5) Non-verifiable indicator

(6) Wage amount

(7) Reporting period

• For employers of individuals in the QW file of the NDNH:

(1) Name (first, middle, last)

(2) Employer identification number

(3) Address(es)

• Transmitter agency code

• Transmitter state code

• State or agency name

SYSTEM(S) OF RECORDS:

SSA's relevant Systems of Records (SORs) are the Master Beneficiary Record (MBR), 60-0090, last fully published on January 11, 2006 (71 Federal Register (FR) 1826), amended on December 10, 2007 (72 FR 69723), July 5, 2013 (78 FR 40542), July 3, 2018 (83 FR 31250-31251), November 1, 2018 (83 FR 54969), January 5, 2024 (89 FR 825), and February 27, 2024 (89 FR 14554); the Completed Determination Record (CDR)-Continuing Disability Determinations (CDD) file, 60-0050, last fully published January 11, 2006 (71 FR 13), amended on December 10, 2007 (72 FR 69723), on November 1, 2018 (83 FR 54969), April 26, 2019 (84 FR 17907), and last amended on January 5, 2024 (89 FR 825).

OCSS will match SSA information in the MBR and CDR-CDD against the QW information maintained in the NDNH. The NDNH contains new hire, QW, and UI information furnished by state and federal agencies and is maintained in the SOR “OCSS National Directory of New Hires,” System No. 09-80-0381, published on February 8, 2024 (89 FR 8703). The disclosure of NDNH information by OCSS to SSA constitutes a “routine use,” as defined by the Privacy Act. 5 U.S.C. 552a(b)(3). Routine use (9) of the SOR authorizes the disclosure of NDNH records to SSA. January 24, 2022 (87 FR 3553, 3555).

[FR Doc. 2025-20488 Filed 11-20-25; 8:45 am]

BILLING CODE 4191-02-P